DEPARTMENT OF THE INTERIOR

National Park Service

Notice of Submission to Office of Management and Budget; Opportunity for Public Comment

AGENCY: National Park Service, Department of the Interior.

ACTION: Notice and request for comments.

SUMMARY: Under provisions of the Paperwork Reduction Act of 1995 and 36 CFR part 51, subpart J, regarding the Assignment or Encumbrance of Concession Contracts, the National Park Service (NPS) invites comments on a currently approved collection of information (OMB Control # 1024-0126).

The Office of Management and Budget (OMB) has up to 60 days to approve or disapprove the NPS request to renew this information collection, but may respond after 30 days. Therefore, to ensure maximum consideration, OMB should receive public comments within 30 days of the date on which this notice is published in the Federal Register.

DATES: Please submit your comments on the proposed Information Collection Request (ICR) by April 28, 2006.

ADDRESSES: Please submit your comments directly to the Desk Officer for the Department of the Interior, (OMB #1024-0126) Office of Information and Regulatory Affairs, OMB, by fax at 202/395-6566, or by e-mail at OIRA_DOCKET@omb.eop.gov. Please also send a copy of your comments to Ms. Jo A. Pendry, Concession Program Manager, National Park Service, 1849 C Street, NW. (2410), Washington, DC 20240, or by e-mail to jo_pendry@nps.gov.

FOR FURTHER INFORMATION CONTACT: J. A. Pendry, Phone: 202-513-7156, fax: 202-371-6662, or at the address above. You are entitled to a copy of the entire ICR package free-of-charge.

SUPPLEMENTARY INFORMATION: Title: Proposed Sale of Concession Operations.

OMB Control Number: 1024-0126.

Expiration Date of Approval: February 28, 2006.

Type of Request: Extension of a currently approved information collection.

Description of Need: The National Park Service (NPS) authorizes private business known as concessioners to provide necessary and appropriate visitor facilities and services in areas of the National Park System. Concession authorizations may be assigned, sold, transferred, or encumbered by the concessioner subject to prior written approval of the NPS. The NPS requires that certain information be submitted for review prior to the consummation of any sale, transfer, assignment, or encumbrance. 16 U.S.C. 5957 provides that no concession contract or leasehold surrender interest may be transferred, assigned, sold or otherwise conveyed or pledged by a concessioner without prior written notification to, and approval by, the Secretary. Regulations at 36 CFR part 51, subpart J, regarding the Assignment or Encumbrance of Concession Contracts, require that certain information be submitted for review by the NPS prior to the consummation of any sale, transfer, assignment, or encumbrance. The information requested is used to determine whether or not the proposed transaction will result in an adverse impact on the protection, conservation, or preservation of the resources of the unit of the National Park System, decreased services to the public, the lack of a reasonable opportunity for profit over the remaining term of the authorization, or rates in excess of approved rates to the public. In addition, pursuant to the regulations at 36 CFR part 51, the value of rights for intangible assets such as the concession contract, right of preference in renewal, user days, or low fees, belongs to the Government.

If any portion of the purchase price is attributable either directly or indirectly to such assets, the transaction may not be approved. the amount and type of information to be submitted varies with the type and complexity of the proposed transaction. Without such information, the NPS would be unable to determine whether approval of the proposed transaction would be adequate.

NPS has submitted a request to OMB to renew approval of the collection of information in 36 CFR part 51, subpart J, regarding the Assignment or Encumbrance of Concession Contracts. NPS is requesting a 3-year term of approval for this information collection activity.

An agency may not conduct or sponsor, and a person is not required to respond to, a collection of information unless it displays a currently valid OMB control number. The OMB control number for this collection of information is 1024-0126, and is identified in 36 CFR 51.104.

The National Park Service published the 60-day Federal Register notice to solicit comments on this proposed information collection on December 13, 2005 on pages 73793-73794. There were no public comments received.

Estimate of Burden: Approximately 80 hours per response.

Estimated Number of Respondents: Approximately 20.

Estimated Number of Responses per Respondent: One.

Estimated Total Annual Burden on Respondents: 1600 hours.

Non-Hour Cost Burden: Approximately $250 per response for copying costs.

A list of information required to be submitted with a request for sale, assignment, transfer or encumbrance of a concession authorization is set forth at 36 CFR part 51, subpart J.

Send comments on (1) the need for this collection; (2) the accuracy of the agency's burden estimates; (3) ways to enhance the quality, utility and clarity of the collection; and (4) ways to minimize the burden, including the use of automated collection techniques or other forms of information technology; or any other aspect of this collection to the Office of Management and Budget at the above address. Please also send a copy of your comments to the NPS. Please refer to OMB control number 1024-0126 in all correspondence.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: February 28, 2006.
Leonard E. Stowe,
NPS Information Collection Clearance Officer, Washington Administrative Program Center.

[FR Doc. 06-3017 Filed 3-28-06; 8:45 am]

BILLING CODE 4312-53-M